Proclamation 9883 of May 10, 2019

National Defense Transportation Day and National Transportation Week, 2019

By the President of the United States of America

A Proclamation

The capability to move and travel freely and efficiently by land, air, and sea is critical to our economic strength, vital to our national defense, and essential to the American way of life. On National Defense Transportation Day and during National Transportation Week, we recognize the dedicated professionals who ensure our transportation infrastructure system is safe, convenient, reliable, and fully prepared to support our national defense.

America's infrastructure systems help sustain our competitive edge and military readiness. After many decades of constant and increasing use, much of our Nation's infrastructure has fallen into disrepair. More than 25 percent of our Nation's bridges are structurally deficient; more than 20 percent of our roads are in poor condition; and drivers lose nearly $160 billion annually because of congestion and delays. If left unaddressed by 2025, our Nation's deteriorating infrastructure will drain our economy of nearly 2.5 million jobs and $4 trillion in gross domestic product.

As a Nation, we cannot afford to wait additional decades to address these critical issues and fix our transportation system. Our country forged its path to global economic dominance through an efficient and hard-nosed determination to build. In 1933, we summoned our most gifted engineers and workers to construct the Golden Gate Bridge; they finished it in 4 years. Three years earlier, in 1930, construction began on the Empire State Building; it took about 1 year to complete. Decades of bureaucratic and regulatory roadblocks have sapped us of that zeal to build. These self-imposed obstacles regularly stall and delay even the most important of infrastructure projects. The environmental review process for some improvement projects can take more than 20 years to complete.

Improving our infrastructure will enhance quality of life, productivity, and the competitiveness of American workers and families. For this reason, I have called on the Congress to pass legislation that provides the funding required to rebuild our roads and bridges. These funds will catalyze new State and local investments in infrastructure, and focus resources on rural communities. By repairing our existing infrastructure and by building bold new projects, we will reduce traffic congestion, improve road conditions, and boost commerce throughout our country.

We cannot fully tackle our infrastructure needs until we commit to meaningful regulatory reform. Last year, we made important strides by establishing a coordinated and timely environmental review process through the One Federal Decision Memorandum of Understanding. This policy sets a Government-wide goal of completing Federal environmental reviews for major infrastructure projects in 2 years—not 10 or 20. We will move more quickly, ensuring sound environmental, community, and economic outcomes in the process.

Finally, maintaining and improving our infrastructure is a matter of economic and national security. It is central to our ability to manufacture and export goods, execute emergency responses, achieve energy independence, and secure our Nation. It sustains our military readiness and capabilities, facilitating the safe and expeditious movement of our troops and the transport of their supplies and equipment to locations in America and around the world. Our men and women in uniform deserve to be safe and well-stocked as they put their lives on the line to defend our freedoms and way of life.

To recognize the men and women who work in the transportation industry and who contribute to our Nation's well-being and defense, the Congress, by joint resolution approved May 16, 1957, as amended (36 U.S.C. 120), has designated the third Friday in May of each year as “National Defense Transportation Day,” and, by joint resolution approved May 14, 1962, as amended (36 U.S.C. 133), has declared that the week during which that Friday falls be designated as “National Transportation Week.”

NOW, THEREFORE, I, DONALD J. TRUMP, President of the United States of America, do hereby proclaim Friday, May 17, 2019, as National Defense Transportation Day and May 12 through May 18, 2019, as National Transportation Week. I encourage all Americans to celebrate these observances with appropriate ceremonies and activities to learn more about how our transportation system contributes to the security of our citizens and the prosperity of our Nation.

IN WITNESS WHEREOF, I have hereunto set my hand this tenth day of May, in the year of our Lord two thousand nineteen, and of the Independence of the United States of America the two hundred and forty-third.

[FR Doc. 2019-10257

Filed 5-14-19; 11:15 am]

Billing code 3295-F9-P